ENVIRONMENTAL PROTECTION AGENCY

[ER-FRL-8587-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080319, ERP No. D-FAA-L40234-AK, Sitka Rocky Gutierrez Airport Master Plan, Improvements to the Runway Safety Area, Taxiway. Seaplane Pullout, Approach Lighting System, and the Seawall, U.S. Army COE Section 10 and 404 Permits, NPDES Permit, AK.

Summary: EPA expressed environmental concerns about water quality and stormwater impacts and the mitigation of those impacts. Rating EC2.

EIS No. 20080331, ERP No. D-NOA-L91032-00, Proposed Acceptable Biological Catch (ABC) and Optimum Yield (OY) Specifications and Management Measures for the 2009-2010 Pacific Coast Groundfish Fishery Management Plan, Implementation, WA, OR and CA.

Summary: While EPA has no objection to the proposed action, EPA did request clarification on monitoring and catch limits. Rating LO.

EIS No. 20080361, ERP No. DS-USA-K11038-HI, Makua Military Reservation (MMR) Project, Proposed Military Training Activities, To Conduct the Necessary Type, Level, Duration, and Intensity of Live-Fire and other Military Training Activities, in Particular Company-Level Combined-Arms, Live-Fire Exercises (CALFEX), 25th Infantry Division (Light) and U.S. Army, HI.

Summary: EPA expressed environmental concerns about impacts to soil and water from weapons-related contaminants. Rating EC2.

Final EISs

EIS No. 20080305, ERP No. F-CGD-E02013-AL, Bienville Offshore Energy Terminal (BOET) Deepwater Port License Application (Docket # USCG-2006-24644), Proposes to Construct and Operate a Liquefied Natural Gas Receiving and Degasification Facility, Outer Continental Shelf of the Gulf of Mexico, South of Fort Morgan, AL.

Summary: EPA continues to have environmental objections about marine fish larvae impacts and impacts to hard bottom habitats from pipeline installation.

EIS No. 20080403, ERP No. F-FHW-J40182-UT, Layton Interchange Project, Improvements on I-15 (Exit-330) to Provide Unrestricted Access Across the Unicon Pacific Railroad and to Address Traffic Congestion on Gentile St. in West Layton, Layton City, UT.

Summary: EPA's previous issues have been resolved; therefore, EPA does not object to the proposed action.

EIS No. 20080406, ERP No. F-BIA-J01082-MT, Absaloka Mine Crow Reservation South Extension Coal Lease Approval, Proposed Mine Development Plan, and Related Federal and State Permitting Actions, Crow Indian Reservation, Crow Tribe, Bighorn County, MT.

Summary: No formal comment letter was sent to the preparing agency.

Dated: November 18, 2008.
Dawn R. Roberts,
Management Analyst.

[FR Doc. E8-27730 Filed 11-20-08; 8:45 am]

BILLING CODE 6560-50-P